DEPARTMENT OF THE INTERIOR

National Park Service

[NPS-WASO-NAGPRA-NPS0036930; PPWOCRADN0-PCU00RP14.R50000]

Notice of Inventory Completion: University of Oregon, Museum of Natural and Cultural History, Eugene, OR

AGENCY: National Park Service, Interior.

ACTION: Notice.

SUMMARY: In accordance with the Native American Graves Protection and Repatriation Act (NAGPRA), the University of Oregon Museum of Natural and Cultural History (UOMNCH) has completed an inventory of human remains and has determined that there is a cultural affiliation between the human remains and Indian Tribes or Native Hawaiian organizations in this notice. The human remains were removed from Honolulu County, HI.

DATES: Repatriation of the human remains in this notice may occur on or after December 15, 2023.

ADDRESSES: Dr. Pamela Endzweig, Director of Anthropological Collections, 1224 University of Oregon, Eugene, OR 97403-1224, telephone (541) 346-5120, email endzweig@uoregon.edu.

SUPPLEMENTARY INFORMATION: This notice is published as part of the National Park Service's administrative responsibilities under NAGPRA. The determinations in this notice are the sole responsibility of the UOMNCH. The National Park Service is not responsible for the determinations in this notice. Additional information on the determinations in this notice, including the results of consultation, can be found in the inventory or related records held by the UOMNCH.

Description

Human remains representing, at minimum, three individuals, were removed from Honolulu County, HI. Records for Accession 100FA indicate that these human remains were removed from an unknown location on the Island of Oahu and were donated by a private party to the UOMNCH (formerly Museum of Natural History) in 1940. The human remains, which are very fragmentary, belong to one young adult and one middle aged adult, both of unknown sex, and one individual, possibly female, 12-18 years old. No associated funerary objects are present.

In 1993, other human remains from Accession 100FA that belonged to two individuals (catalogued as 11-107 and 11-108) were repatriated by UOMNCH to Hui Mālama I Nā Kūpuna O Hawai'I Nei. In 2023, a skeletal remain belonging to one of those individuals was repatriated to Hui Iwi Kuamo'o (the successor of Hui Mālama I Nā Kūpuna O Hawai'I Nei).

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical.

Determinations

Pursuant to NAGPRA and its implementing regulations, and after consultation with the appropriate Indian Tribes and Native Hawaiian organizations, the UOMNCH has determined that:

• The human remains described in this notice represent the physical remains of three individuals of Native American ancestry.

• There is a relationship of shared group identity that can be reasonably traced between the human remains and associated funerary objects described in this notice and the Aha Maā lama Corporation (aka The Caring Council Corporation); Ahahui Siwila Hawai'i O Kapoōlei (aka Kapolei Hawaiian Civic Club); Association of Hawaiian Civic Clubs (AHCC); Department of Hawaiian Homelands; Friends of 'Iolani Palace; Hawaiian Civic Club of Wahiawa (HCCW); Hawaiian Genealogy Society; Ho'okano Family Land Trust; Hui Iwi Kuamo'o; Hui Kaleleiki Ohana; Kaha I Ka Panoa Kaleponi Hawaiian Civic Club; Kaiwi Olelo O'Hawaii; Kalaeloa Heritage and Legacy Foundation; Kamealoha; Kamehameha Schools; Kawaihapai Ohana; Kawaileo Law A Limited Liability Law Company; Kekumano 'Ohana'; Ko'olau Foundation; Ko'olaupoko Hawaiian Civic Club; Kuloloi'a Lineage—I ke Kai'o Kuloloi'a; Ma'a 'Ohana c/o Lani Ma'a Lapilio; Mahu Ohana; Native Hawaiian Advisory Council; Native Hawaiian Church; O'ahu Island Burial Council; Office of Hawaiian Affairs; Ohana Keaweamahi; Ohana Keohokalole; Pa Ku'i-a-lua; and P'uuhonua O Waimanalo.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after December 15, 2023. If competing requests for repatriation are received, the UOMNCH must determine the most appropriate requestor prior to repatriation. Requests for joint repatriation of the human remains are considered a single request and not competing requests. The UOMNCH is responsible for sending a copy of this notice to the Native Hawaiian organizations identified in this notice.

Authority: Native American Graves Protection and Repatriation Act, 25 U.S.C. 3003, and the implementing regulations, 43 CFR 10.9, 10.10, and 10.14.

Dated: November 8, 2023.
Melanie O'Brien,
Manager, National NAGPRA Program.

[FR Doc. 2023-25216 Filed 11-14-23; 8:45 am]

BILLING CODE 4312-52-P